DEPARTMENT OF EDUCATION

[Docket No.: ED-2026-SCC-0034]

Agency Information Collection Activities; Comment Request; National Special Education Spending Study

AGENCY: National Center for Education Statistics (NCES), Institute of Education Sciences (IES), Department of Education (ED).

ACTION: Notice.

SUMMARY: In accordance with the Paperwork Reduction Act (PRA) of 1995, the Department is proposing a new information collection request (ICR).

DATES: Interested persons are invited to submit comments on or before March 30, 2026.

ADDRESSES: To access and review all the documents related to the information collection listed in this notice, please use http://www.regulations.gov by searching the Docket ID number ED-2026-SCC-0034. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the National Center for Education Statistics, U.S. Department of Education, 400 Maryland Ave. SW, LBJ, Room 5C125, Washington, DC 20202-1200.

FOR FURTHER INFORMATION CONTACT: For specific questions related to collection activities, please contact Matt Soldner, (202) 453-7441.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: National Special Education Spending Study.

OMB Control Number: 1850-NEW.

Type of Review: New ICR.

Respondents/Affected Public: State, Local, and Tribal Governments.

Total Estimated Number of Annual Responses: 5,051.

Total Estimated Number of Annual Burden Hours: 11,501.

Abstract: The Institute of Education Sciences (IES), within the U.S. Department of Education (ED), requests clearance from the Office of Management and Budget (OMB) for a new data collection, the National Study of Special Education Spending (NSSES). The study will produce estimates for what is spent on special education services for students with disabilities (SWDs), both overall and by disability category, including expenditures made by states, districts, and schools. The NSSES also will provide policymakers and special education administrators with an up-to-date understanding of the key factors that influence special education spending, what this spending pays for, and to what extent federal appropriations from the Individuals with Disabilities Education Act of 2004 (IDEA) cover special education spending.

Ross Santy,
Chief Data Officer, Office of Planning, Evaluation and Policy Development.

[FR Doc. 2026-01624 Filed 1-27-26; 8:45 am]

BILLING CODE 4000-01-P